DEPARTMENT OF STATE

[Public Notice 3577]

Bureau of Educational and Cultural Affairs Request for Grant Proposals: Internet Access and Training Program in the Western NIS

SUMMARY: The Office of Academic Exchange Programs/European Programs Branch of the Bureau of Educational and Cultural Affairs (ECA) announces an open competition for the Internet Access and Training Program in the Western NIS. Public and private non-profit organizations meeting the provisions described in IRS regulation 26 CFR 1.501(c) may submit proposals to administer the Internet Access and Training Program (IATP) in the Western NIS (Belarus, Moldova and Ukraine). The grantee organization will oversee and carry out IATP operations, including the establishment of new IATP sites in the Western NIS, the maintenance and enhancement of existing sites, the development of Internet outreach and educational projects, and engaging ECA alumni and other interested groups in the IATP. All activities of the IATP will be undertaken in regular and consistent consultation with the Public Affairs Section (PAS) of the U.S. Embassy in each participating country.

Program Information

Overview

The IATP sponsors public access Internet sites throughout the former Soviet Union. The IATP makes e-mail and the World Wide Web available to ECA alumni and other target audiences through its support of these Internet sites. IATP sites are typically located at public libraries, NGOs and universities with which the IATP administering organization has entered into mutually beneficial agreements that govern how the sites are managed and maintained. In addition, the IATP serves as a means to train its target audiences in the effective and meaningful use of the World Wide Web, including instruction in the design and maintenance of websites, databases and distance education courses. The goals of the program are to promote the development of on-line information resources in the Western NIS and to facilitate the exposure of ECA alumni and targeted audiences to the World Wide Web. The IATP also sponsors a small grants competition by which ECA alumni and other groups may receive funding for Internet projects of their own design.

Subject to the availability of funds, it is anticipated that this grant will begin on or about September 1, 2001. Please refer to the Solicitation Package for further information.

Budget Guidelines

Grants awarded to eligible organizations with less than four years of experience in conducting international exchange programs will be limited to $60,000.

Applicants must submit a comprehensive budget for the entire program. ECA anticipates awarding one grant in the amount of $1,750,000 ($350,000 for Belarus; $400,000 for Moldova; $1,000,000 for Ukraine) to support the program and administrative costs required to implement this program. ECA encourages applicants to provide maximum levels of cost sharing and funding from private sources in support of its programs. There must be a summary budget as well as breakdowns reflecting both administrative and program budgets. Applicants may provide separate sub-budgets for each program component, phase, location, or activity to provide clarification.

Please refer to the Solicitation Package for complete budget guidelines and formatting instructions.

Announcement Title and Number

All correspondence with ECA concerning this RFGP should reference the above title and number ECA/A/E/EUR-01-11.

FOR FURTHER INFORMATION CONTACT: The Office of Academic Exchanges, ECA/A/E/EUR, Room 246, U.S. Department of State, 301 4th Street, SW., Washington, DC 20547, tel. (202) 205-0525, fax (202) 260-7985, exchanges@pd.state.gov to request a Solicitation Package. The Solicitation Package contains detailed award criteria, required application forms, specific budget instructions, and standard guidelines for proposal preparation. Please specify ECA Program Officer Sheila Casey on all other inquiries and correspondence.

Please read the complete Federal Register announcement before sending inquiries or submitting proposals. Once the RFGP deadline has passed, Department of State staff may not discuss this competition with applicants until the proposal review process has been completed.

To Download a Solicitation Package Via Internet

The entire Solicitation Package may be downloaded from ECA's website at http://exchanges.state.gov/education/RFGPs. Please read all information before downloading.

Deadline for Proposals

All proposal copies must be received at the Bureau of Educational and Cultural Affairs by 5 p.m. Washington, DC time on Friday, April 6, 2001. Faxed documents will not be accepted at any time. Documents postmarked the due date but received on a later date will not be accepted. Each applicant must ensure that the proposals are received by the above deadline.

Applicants must follow all instructions in the Solicitation Package. The original and eight (8) copies of the application should be sent to: U.S. Department of State, SA-44, Bureau of Educational and Cultural Affairs, Ref.: ECA/A/E/EUR-01-11, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. ECA will transmit these files electronically to the Public Affairs Sections at U.S. Embassies for review, with the goal of reducing the time it takes to obtain Embassy comments for ECA's grants review process.

Diversity, Freedom and Democracy Guidelines

Pursuant to ECA's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” ECA “shall take appropriate steps to provide opportunities for participation in such programs to human rights and democracy leaders of such countries.” Public Law 106—113 requires that the governments of the countries described above do not have inappropriate influence in the selection process. Proposals should reflect advancement of these goals in their program contents, to the full extent deemed feasible.

Review Process

ECA will acknowledge receipt of all proposals and will review them for technical eligibility. Proposals will be deemed ineligible if they do not fully adhere to the guidelines stated herein and in the Solicitation Package. All eligible proposals will be reviewed by the program office, as well as by the Public Diplomacy Sections overseas, where appropriate. Eligible proposals will be subject to compliance with Federal and ECA regulations and guidelines and forwarded to Department of State grant panels for advisory review. Proposals may also be reviewed by the Office of the Legal Adviser or by other Department elements. Final funding decisions are at the discretion of the Department of State's Acting Assistant Secretary for Educational and Cultural Affairs. Final technical authority for assistance awards (grants or cooperative agreements) resides with ECA's Grants Officer.

Review Criteria

Technically eligible applications will be competitively reviewed according to the criteria stated below. These criteria are not rank ordered and all carry equal weight in the proposal evaluation:

1. Program Development and Management: The proposal should exhibit originality, substance, precision, innovation, and relevance to ECA's mission. Objectives should be reasonable, feasible and flexible. The proposal should clearly demonstrate how the grantee organization will meet the program's objectives. A relevant work plan should demonstrate substantive undertakings and logistical capacity. The work plan should adhere to the program overview and guidelines described above.

2. Multiplier Effect/Impact: The IATP should strengthen long-term mutual understanding, including maximum sharing of information and Internet expertise. The grantee organization should include ECA alumni as a resource for facilitating IATP outreach and education.

3. Support of Diversity: The proposal should demonstrate the grantee organization's commitment to promoting the awareness and understanding of diversity through geographic distribution of IATP sites and outreach to groups identified in consultation with PAS officers in Belarus, Moldova and Ukraine.

4. Institution's Record/Ability: The proposal should demonstrate an institutional record of successful administration of Internet programs. Proposed personnel and institutional resources should be adequate and appropriate to achieve the program's goals.

5. Project Evaluation: The proposal should include a plan to evaluate the success of the IATP. ECA recommends that the proposal include a draft survey questionnaire or other technique, plus a description of methodologies that can be used to link outcomes to original project objectives. The grantee organization will be expected to submit periodic progress reports that elucidate the successes achieved, and obstacles encountered, by the IATP.

6. Cost-effectiveness and Cost Sharing: The overhead and administrative components of the proposal, including salaries and honoraria, should be kept as low as possible. All other items should be necessary and appropriate. The proposal should maximize cost sharing through other private sector support as well as institutional direct funding contributions.

7. Follow-on and Sustainability: The proposal should provide a plan for continued follow-on activity that ensures that ECA-supported programs are not isolated events, but have meaning and scope beyond the time the actual exchange took place. The proposal should address the feasibility of sustaining viable IATP sites and training seminars after ECA funding ends.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided in part through the FREEDOM Support Act of 1993.

Notice

The terms and conditions published in this RFGP are binding and may not be modified by any ECA representative. Explanatory information provided by ECA that contradicts published language will not be binding. Issuance of the RFGP does not constitute an award commitment on the part of the Government. ECA reserves the right to reduce, revise, or increase proposal budgets in accordance with the needs of the program and the availability of funds. Awards made will be subject to periodic reporting and evaluation requirements.

Notification

Final awards cannot be made until funds have been appropriated by Congress, allocated and committed through internal ECA procedures.

Dated: February 9, 2001.
Helena Kane Finn,
Acting Assistant Secretary for Educational and Cultural Affairs, U.S. Department of State.

[FR Doc. 01-3879 Filed 2-14-01; 8:45 am]

BILLING CODE 4710-05-P